ENVIRONMENTAL PROTECTION AGENCY

40 CFR Part 52

[IN100-1b, IN120-1b; FRL-6728-1]

Approval and Promulgation of Implementation Plans; Indiana

AGENCY: Environmental Protection Agency (EPA).

ACTION: Proposed rule.

SUMMARY: EPA is proposing to approve revisions to total suspended particulate (TSP) and sulfur dioxide (SO2) emissions regulations for National Starch and Chemical Company (National Starch), and TSP regulations for Allison Transmission (Allison). Both of these facilities are located in Marion County, Indiana. The Indiana Department of Environmental Management (IDEM) submitted the revised regulations on February 3, 1999, August 30, 1999, and May 17, 2000, as amendments to its State Implementation Plan (SIP). The revisions include the relaxation of some limits, the tightening of one limit, and the elimination of limits for several sources which are no longer operating. The revisions also include the combination of annual emissions limits for several boilers, and recordkeeping requirements. These SIP revisions result in an overall decrease in allowed TSP emissions of about 406 tons per year for National Starch, and no change in overall annual emissions for Allison. Air quality modeling analyses conducted by IDEM show that the maximum daily and annual impacts of these SIP revisions are below established significance levels. Therefore, these SIP revisions will not have an adverse effect on air quality.

DATES: EPA must receive written comments by September 1, 2000.

ADDRESSES: You should mail written comments to: J. Elmer Bortzer, Chief, Regulation Development Section, Air Programs Branch (AR-18J), U.S. Environmental Protection Agency, Region 5, 77 West Jackson Boulevard, Chicago, Illinois 60604.

You may inspect copies of the State submittal and EPA's analysis of it at:

Regulation Development Section, Air Programs Branch (AR-18J), U.S. Environmental Protection Agency, Region 5, 77 West Jackson Boulevard, Chicago, Illinois 60604.

FOR FURTHER INFORMATION CONTACT: David Pohlman, Environmental Scientist, Regulation Development Section, Air Programs Branch (AR-18J), U.S. Environmental Protection Agency, Region 5, 77 West Jackson Boulevard, Chicago, Illinois 60604, (312) 886-3299.

SUPPLEMENTARY INFORMATION: Throughout this document wherever “we,” “us,” or “our” are used we mean EPA.

Table of Contents

I. What actions is EPA taking today?

II. Where can I find more information about this proposal and the corresponding direct final rule?

I. What Actions is EPA Taking Today?

We are proposing to approve revisions to TSP and SO2 emissions regulations for National Starch, and TSP regulations for Allison. Both of these facilities are located in Marion County, Indiana. The revised regulations were submitted by IDEM on February 3, 1999, August 30, 1999, and May 17, 2000, as amendments to its SIP. The revisions include relaxation of some limits, tightening of one limit, and the elimination of limits for several sources which are no longer operating. The revisions also include the combination of annual emissions limits for several boilers, and recordkeeping requirements.

II. Where Can I Find More Information About This Proposal and the Corresponding Direct Final Rule?

For additional information see the direct final rule published in the rules section of this Federal Register.

Dated: June 16, 2000.
Francis X. Lyons,
Regional Administrator, Region 5.

[FR Doc. 00-19370 Filed 8-1-00; 8:45 am]

BILLING CODE 6560-50-P